DEPARTMENT OF AGRICULTURE

Deschutes Provincial Advisory Committee (PAC)

AGENCY: Forest Service, Agriculture.

ACTION: Notice of meeting.

SUMMARY: The Deschutes Provincial Advisory Committee will meet on November 8, 2001 at the Jefferson County Fire Hall on the corner of Adam and “J” Street in Madras, Oregon. A business meeting will begin at 9 a.m. and finish at 3:30 p.m. Agenda items will include a discussion on the Lower Deschutes Data Committee Charter, Northwest Forest Plan Monitoring, Recreation Fee Demo, Issue Team Approval of the Upper Deschutes Resource Management Plan, Future Meeting Dates and Topics, Information Sharing and a Public Forum from 3 p.m. until 3:30 p.m. All Deschutes Province Advisory Committee Meetings are open to the public.

FOR FURTHER INFORMATION CONTACT: Mollie Chaudet, Province Liaison, USDAFS, Bend-Ft. Rock Ranger District, 1230 NE 3rd, Bend, OR 97701, Phone (541) 416-6872.

Leslie A.C. Weldon,
Forest Supervisor.

[FR Doc. 01-26517 Filed 10-19-01; 8:45 am]

BILLING CODE 3410-11-M